DEPARTMENT OF LABOR

Office of the Secretary

Agency Information Collection Activities; Submission for OMB Review; Comment Request; Evaluation of the Adult and Dislocated Worker Program in the Workforce Investment Act

ACTION: Notice.

SUMMARY: The Department of Labor (DOL) is submitting the proposed Employment and Training Administration (ETA) sponsored information collection request (ICR) titled, “Evaluation of the Adult and Dislocated Worker Program in the Workforce Investment Act,” to the Office of Management and Budget (OMB) for review and approval for use in accordance with the Paperwork Reduction Act (PRA) of 1995 (Pub. L. 104-13, 44 U.S.C. chapter 35).

DATES: Submit comments on or before August 17, 2011.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an e-mail to DOL_PRA_PUBLIC@dol.gov.

Submit comments about this request to the Office of Information and Regulatory Affairs, Attn: OMB Desk Officer for the Department of Labor, Employment and Training Administration (ETA), Office of Management and Budget, Room 10235, Washington, DC 20503, Telephone: 202-395-6929/Fax: 202-395-6881 (these are not toll-free numbers), e-mail: OIRA_submission@omb.eop.gov.

FOR FURTHER INFORMATION CONTACT: Michel Smyth by telephone at 202-693-4129 (this is not a toll-free number) or by e-mail at DOL_PRA_PUBLIC@dol.gov.

SUPPLEMENTARY INFORMATION: To determine whether the adult and dislocated worker services funded by Title I of the Workforce Investment Act (WIA) are effective, the ETA is undertaking the WIA Random Assignment Impact Evaluation of the Adult and Dislocated Worker Programs. The evaluation will address the following research questions:

• Does access to WIA intensive and training services-both individually and combined-lead adults and dislocated workers to achieve better educational, employment, earnings, and self-sufficiency outcomes than they would achieve in the absence of access to those services?

• Does the effectiveness of the WIA vary by population subgroup? Is there variation by sex, age, race/ethnicity, unemployment insurance receipt, education level, previous employment history, adult and dislocated worker status, and veteran and disability status?

• How does the implementation of the WIA vary by Local Workforce Investment Area? Does the effectiveness of the WIA vary by how it is implemented? To what extent do implementation differences explain variations in the WIA's effectiveness?

• Do the benefits from WIA services exceed program costs? Do the benefits of intensive services exceed their costs? Do the benefits of training exceed its costs? Do the benefits exceed the costs for adults? Do they for dislocated workers?

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB control number. See 5 CFR 1320.5(a) and 1320.6. For additional information, see the related notice published in the Federal Register on November 10, 2010 (75 FR 69126).

Interested parties are encouraged to send comments to the OMB, Office of Information and Regulatory Affairs at the address shown in the ADDRESSES section within 30 days of publication of this notice in the Federal Register. In order to help ensure appropriate consideration, comments should reference OMB Control Number 201101-1205-001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: New Collection (Request for a new OMB Control Number).

Title of Collection: Evaluation of the Adult and Dislocated Worker Program in the Workforce Investment Act.

OMB Reference Number: 201101-1205-001.

Affected Public: Individuals or Households; State, Local, and Tribal Governments.

Total Estimated Number of Respondents: 69,350.

Total Estimated Number of Responses: 70,430.

Total Estimated Annual Burden Hours: 34,133.

Total Estimated Annual Other Costs Burden: $0.

Dated: July 12, 2011.
Michel Smyth,
Departmental Clearance Officer.

[FR Doc. 2011-18008 Filed 7-15-11; 8:45 am]

BILLING CODE 4510-FN-P